DEPARTMENT OF TRANSPORTATION

Surface Transportation Board

[STB Finance Docket No. 34486]

Ohio Valley Railroad Company—Acquisition and Operation Exemption—Harwood Properties, Inc.

Ohio Valley Railroad Company (OVR), a noncarrier, has filed a verified notice of exemption under 49 CFR 1150.31 to acquire by lease from Harwood Properties, Inc. (HPI) and operate approximately 2.8 miles of trackage consisting of tracks 4 through 11 and connecting tracks in the former Harwood Yard in Evansville, IN. The lines connect with lines operated by Indiana Southwestern Railroad Company (ISWR). OVR certifies that its projected revenues as a result of this transaction will not exceed those that would qualify it as a Class III carrier and will not exceed $5 million annually.¹

¹ On March 26, 2004, counsel for CSX Transportation, Inc. submitted comments requesting that the Board closely review OVR's proposal to determine if OVR will actually become a common carrier or will merely be a new entity providing non-common carrier service. By facsimile dated April 6, 2004, OVR stated that it “would provide common carrier rail operations upon exemption authorization from the Surface Transportation Board.”

The transaction was scheduled to be consummated on or after March 30, 2004, the effective date of exemption (7 days after the exemption was filed).²

² On April 15, 2004, ISW filed a petition to reject the verified notice, to revoke the exemption, or to stay its effect. ISW's petition will be addressed by the Board in a separate decision.

If the verified notice contains false or misleading information, the exemption is void ab initio. Petitions to revoke the exemption under 49 U.S.C. 10502(d) may be filed at any time. The filing of a petition to revoke will not automatically stay the transaction.

An original and 10 copies of all pleadings, referring to STB Finance Docket No. 33486, must be filed with the Surface Transportation Board, 1925 K Street, NW., Washington, DC 20423-0001. In addition, a copy of each pleading must be served on Richard R. Wilson, 2310 Grant Building, Pittsburgh, PA 15219-2383.

Board decisions and notices are available on our Web site at www.stb.dot.gov.

Decided: April 16, 2004.
By the Board, David M. Konschnik, Director, Office of Proceedings.
Vernon A. Williams,
Secretary.

[FR Doc. 04-9173 Filed 4-21-04; 8:45 am]

BILLING CODE 4915-01-P